DEPARTMENT OF DEFENSE

Department of the Air Force

[Docket ID: USAF-2009-0061]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: This proposed action will be effective without further notice on January 4, 2010 unless comments are received which result in a contrary determination.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Mr. Ben Swilley at 703-696-6172.

SUPPLEMENTARY INFORMATION: The Department of the Air Force systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: December 1, 2009.
Mitchell S. Bryman,
Alternate OSD Federal Register Liaison Officer, Department of Defense.

F036 USAFA I

System Name:

Cadet History Data Base (May 7, 1999; 64 FR 24611)

Changes:

* * * * *

System location:

Delete entry and replace with “Chief, Institutional Research Division, Headquarters, United States Air Force Academy, (HQ USAFA/XPN), 2304 Cadet Drive, Suite 3800, United States Air Force Academy, CO 80840-5002.”

* * * * *

Categories of records in the system:

Delete entry and replace with “Individual's full name, Social Security Number (SSN), high school, college and USAF career information. Including active duty, reserve, and National Guard military performance, academic performance, certain medical, disciplinary and personal facts, historical admissions data, attrition data, test data from interest/personality profiles, and names of cadets whose parents are VIPs.”

* * * * *

Storage:

Delete entry and replace with “Electronic storage media.”

Retrievability:

Delete entry and replace with “By Social Security Number (SSN) and individual's name.”

Safeguards:

Delete entry and replace with “Records are accessed by individual(s) responsible for servicing the record system in performance of their official duties and by authorized personnel who are properly screened and cleared for need-to-know. Records are stored in locked rooms and cabinets. Those in computer storage devices are protected by computer system software, passwords and file server permissions.”

* * * * *

System manager(s) and address:

Delete entry and replace with “Chief, Institutional Research Division, Headquarters, United States Air Force Academy (HQ USAFA/XPN), 2304 Cadet Drive, Suite 3800, United States Air Force Academy, CO 80840-5002.”

Notification procedure:

Delete entry and replace with “Individuals seeking to determine whether this system of records contains information on themselves should address inquiries to the Chief, Institutional Research Division, Headquarters, United States Air Force Academy (HQ USAFA/XPN), 2304 Cadet Drive, Suite 3800, United States Air Force Academy, CO 80840-5002.

Requests should contain the individual's full name and Social Security Number (SSN).”

Record access procedures:

Delete entry and replace with “Individuals seeking to access records about themselves contained in this system should address requests to the Chief, Institutional Research Division, Headquarters, United States Air Force Academy (HQ USAFA/XPN), 2304 Cadet Drive, Suite 3800, United States Air Force Academy, CO 80840-5002.

Requests should contain the individual's full name and Social Security Number (SSN).”

* * * * *

Record source categories:

Delete entry and replace with “Information obtained from educational institutions, medical institutions, automated system interfaces, Cadet Administrative Management Information System (CAMIS) database, Association of Graduates, and source documents (such as reports).

* * * * *

F036 USAFA I

System name:

Cadet History Data Base

System location:

Chief, Institutional Research Division, Headquarters, United States Air Force Academy, (HQ USAFA/XPN), 2304 Cadet Drive, Suite 3800, United States Air Force Academy, CO 80840-5002.

Categories of individuals covered by the system:

Current and former USAF Academy cadets.

Categories of records in the system:

Individual's full name, Social Security Number (SSN), high school, college and USAF career information. Including active duty, reserve, and National Guard military performance, academic performance, certain medical, disciplinary and personal facts, historical admissions data, attrition data, test data from interest/personality profiles, and names of cadets whose parents are VIPs.

Authority for maintenance of the system:

10 U.S.C. 9331, Establishment; Superintendent; faculty; and E.O. 9397 (SSN) as amended.

Purpose(s):

Used by USAF Academy faculty and staff in conducting studies and analysis relating to attitudes, retention, graduate professional performance, and career pattern.

Routine uses of records maintained in the system, including categories of users and the purposes of such uses:

In addition to those disclosures generally permitted under 5 U.S.C. 552a(b) of the Privacy Act, these records contained herein may specifically be disclosed outside the DoD as a routine use pursuant to 5 U.S.C. 552a(b)(3) as follows:

Information may be furnished to congressional nominating source for the purpose of enhancing the nomination selection process.

The Association of Graduates may receive information to foster graduates' fellowship and professional development, as well as promote institutional development.

The ‘Blanket Routine Uses’ published at the beginning of the Air Force's compilation of record system notices apply to this system.

Policies and practices for storing, retrieving, accessing, retaining, and disposing of records in the system:

Storage:

Electronic storage media.

Retrievability:

By Social Security Number (SSN) and individual's name.

Safeguards:

Records are accessed by individual(s) responsible for servicing the record system in performance of their official duties and by authorized personnel who are properly screened and cleared for need-to-know. Records are stored in locked rooms and cabinets. Those in computer storage devices are protected by computer system software, passwords and file server permissions.

Retention and disposal:

Records are retained until superseded, obsolete, no longer needed for reference, or upon inactivation. Records are destroyed by tearing into pieces, shredding, pulping, macerating or burning. Computer records are destroyed by erasing, deleting, overwriting or degaussing.

System manager(s) and address:

Chief, Institutional Research Division, Headquarters, United States Air Force Academy (HQ USAFA/XPN), 2304 Cadet Drive, Suite 3800, United States Air Force Academy, CO 80840-5002.

Notification procedure:

Individuals seeking to determine whether this system of records contains information on themselves should address inquiries to the Chief, Institutional Research Division, Headquarters, United States Air Force Academy (HQ USAFA/XPN), 2304 Cadet Drive, Suite 3800, United States Air Force Academy, CO 80840-5002.

Requests should contain the individual's full name and Social Security Number (SSN).

Record access procedures:

Individuals seeking to access records about themselves contained in this system should address requests to the Chief, Institutional Research Division, Headquarters, United States Air Force Academy (HQ USAFA/XPN), 2304 Cadet Drive, Suite 3800, United States Air Force Academy, CO 80840-5002.

Requests should contain the individual's full name and Social Security Number (SSN).

Contesting record procedures:

The Air Force rules for accessing records and for contesting contents and appealing initial agency determinations are published in Air Force Instruction 33-332; or may be obtained from the system manager.

Record source categories:

Information obtained from educational institutions, medical institutions, automated system interfaces, Cadet Administrative Management Information System (CAMIS) database, Association of Graduates, and source documents (such as reports).

Exemptions claimed for the system:

None.

[FR Doc. E9-28980 Filed 12-3-09; 8:45 am]

BILLING CODE 5001-06-P